NUCLEAR REGULATORY COMMISSION

Advisory Committee on Nuclear Waste; Notice of Meeting

The Advisory Committee on Nuclear Waste (ACNW) will hold its 119th meeting on June 13-15, 2000, Room ­T-2B3, 11545 Rockville Pike, Rockville, Maryland.

The entire meeting will be open to public attendance.

The schedule for this meeting is as follows:

Tuesday, June 13, 2000—8:30 a.m. Until 5:00 p.m.

A. 8:30 a.m.-10:30 a.m.: ACNW Planning and Procedures (Open)—The Committee will consider topics proposed for future consideration by the full Committee and Working Groups. The ACNW will discuss planned tours and ACNW-related activities of individual members.

B. 10:45 a.m.-12:30 p.m.: Low Level Waste Branch Technical Position on Performance Assessment (Open)—The Committee will review and provide comments on the final draft version of this branch technical position (BTP). The NRC staff will discuss the resolution of public comments received on the BTP.

C. 1:30 p.m.-3:00 p.m.: West Valley Policy Public Comments (Open)—The Committee will hear and discuss public comments on the West Valley Demonstration Project decommissioning plan. The Committee will discuss the current status of the license termination plan with representatives of the NRC staff.

D. 3:15 p.m.-5:00 p.m.: Prepare for the Next Public Meeting with the Commission (Open)—The ACNW will begin preparation for the next public meeting with the Commission. Potential topics for discussion include: NRC's 10 CFR part 63, Disposal of High-Level Radioactive Waste in a Proposed Geological Repository at Yucca Mountain, Nevada; the recent Committee advice on the control of solid material; highlights of the Committee's recent European trip; the Defense In-Depth philosophy; and the ACNW's 2000 Action Plan.

Wednesday, June 14, 2000—8:30 a.m. Until 5:00 p.m.

E. 8:30 a.m.-10:30 a.m.: Proposed Yucca Mountain Repository Design Features (Open)—Representatives of the DOE will present the status of the design for the proposed high-level waste repository at Yucca Mountain. The latest engineered features will be discussed.

F. 10:45 a.m.-12:30 p.m.: Department of Energy's (DOE) Repository Safety Strategy—Representatives of the DOE will discuss the safety strategy for the proposed Yucca Mountain high-level waste repository. This may include a comparison of their principal factors associated with the proposed repository to the NRC staff's list of Key Technical Issues. There will also be a summary of Yucca Mountain specific siting guidelines in 10 CFR part 963.

G. 1:30 p.m.-3:00 p.m.: Status of the NRC LLW Program (Open)—The Committee will review the status of the NRC's low-level radioactive waste program with representatives of the NRC staff's Uranium Recovery and Low-Level Waste Branch.

H. 3:15 p.m.-5:00 p.m.: Preparation of ACNW Reports (Open)—The Committee will discuss planned reports on the following topics: NRC's plans to provide sufficiency comments on the DOE's Site Recommendation Considerations Report; the Use of Defense In-Depth philosophy; Risk-Informed Approaches to Nuclear Materials Regulatory Applications; Comments on the LLW BTP on Performance Assessment; High-Lights of the ACNW Visit to the U.K. and France; and comments on draft regulatory guides, DG-1067, “Decommissioning of Nuclear Power Reactors” and DG-1071, “Standard Format and Content For Post-Shutdown Decommissioning Activities.”

Thursday, June 15, 2000—8:30 a.m. Until 5:00 p.m.

I. 8:30 a.m.—9:30 a.m.: Meeting with the Director of the Division of Waste Management, Office of Nuclear Material Safety and Safeguards (Open)—The Committee will meet with the Director to discuss items of mutual interest.

J. 9:30 a.m.-10:00 a.m.: DG-1067 and DG-1071—The ACNW will consider two draft regulatory guides, DG-1067, “Decommissioning of Nuclear Power Reactors,” and DG-1071, “Standard Format and Content for Post-Shutdown Decommissioning Activities.”

K. 10:00 a.m.-2:00 p.m.: Complete ACNW Reports (Open)—Complete preparation of ACNW reports noted in item H.

L. 2:00 p.m.-3:00 p.m.: Miscellaneous (Open)—The Committee will discuss miscellaneous matters related to the conduct of Committee and organizational activities and complete discussion of matters and specific issues that were not completed during previous meetings, as time and availability of information permit.

Procedures for the conduct of and participation in ACNW meetings were published in the Federal Register on September 28, 1999 (64 FR 52352). In accordance with these procedures, oral or written statements may be presented by members of the public, electronic recordings will be permitted only during those portions of the meeting that are open to the public, and questions may be asked only by members of the Committee, its consultants, and staff. Persons desiring to make oral statements should notify Richard K. Major, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Major as to their particular needs.

Further information regarding topics to be discussed, whether the meeting has been canceled or rescheduled, the Chairman's ruling on requests for the opportunity to present oral statements and the time allotted therefore can be obtained by contacting Mr. Richard K. Major, ACNW (Telephone 301/415-7366), between 8:00 A.M. and 5:00 P.M. EDT.

ACNW meeting notices, meeting transcripts, and letter reports are now available for downloading or reviewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

Dated: May 17, 2000.
Andrew L. Bates,
Advisory Committee Management Officer.

[FR Doc. 00-13061 Filed 5-23-00; 8:45 am]

BILLING CODE 7590-01-P